DEPARTMENT OF ENERGY

Federal Energy Regulatory Commission

Combined Notice of Filings

Take notice that the Commission has received the following Natural Gas Pipeline Rate and Refund Report filings:

Filings Instituting Proceedings

Docket Numbers: RP12-327-000.

Applicants: Ozark Gas Transmission, L.L.C.

Description: Negotiated Rate—EDF Trading—contract 820013 to be effective 2/1/2012.

Filed Date: 1/26/12.

Accession Number: 20120126-5058.

Comments Due: 5 p.m. ET 2/7/12.

Docket Numbers: RP12-328-000.

Applicants: Texas Eastern Transmission, LP.

Description: Termination of Non-conforming Agreement 800474 to be effective 2/26/2012.

Filed Date: 1/26/12.

Accession Number: 20120126-5078.

Comments Due: 5 p.m. ET 2/7/12.

Docket Numbers: RP12-329-000.

Applicants: Eastern Shore Natural Gas Company.

Description: ACA Filing—Revised to Reflect RP11-1670-000 Settlement to be effective 10/1/2011.

Filed Date: 1/26/12.

Accession Number: 20120126-5103.

Comments Due: 5 p.m. ET 2/7/12.

Docket Numbers: RP12-330-000.

Applicants: Black Marlin Pipeline Company.

Description: Petition of Black Marlin Pipeline Company for Extension of Temporary Exemptions from Tariff Provisions.

Filed Date: 1/26/12.

Accession Number: 20120126-5158.

Comments Due: 5 p.m. ET 2/7/12.

Docket Numbers: RP12-331-000.

Applicants: Natural Gas Pipeline Company of America LLC.

Description: J-W Gathering Negotiated Rate to be effective 1/6/2012.

Filed Date: 1/26/12.

Accession Number: 20120126-5177.

Comments Due: 5 p.m. ET 2/7/12.

Docket Numbers: RP12-332-000.

Applicants: Transcontinental Gas Pipe Line Company, LLC.

Description: S-2 Tracker Filing Effective 02-01-2012 to be effective 2/1/2012.

Filed Date: 1/26/12.

Accession Number: 20120126-5189.

Comments Due: 5 p.m. ET 2/7/12.

Docket Numbers: RP12-333-000.

Applicants: Steckman Ridge, LP.

Description: Termination of Non-conforming Agreement 920024 to be effective 2/26/2012.

Filed Date: 1/26/12.

Accession Number: 20120126-5192.

Comments Due: 5 p.m. ET 2/7/12.

Docket Numbers: RP12-334-000.

Applicants: Colorado Interstate Gas Company LLC.

Description: Black Hills Non-Conforming Negotiated Rate Filing to be effective 1/1/2012.

Filed Date: 01/26/2012.

Accession Number: 20120126-5223.

Comments Due: 5 p.m. ET 2/7/12.

Docket Numbers: RP12-335-000.

Applicants: Ruby Pipeline, L.L.C.

Description: Parking and Lending Service Charge Filing to be effective 2/27/2012.

Filed Date: 1/27/12.

Accession Number: 20120127-5001.

Comments Due: 5 p.m. ET 2/8/12.

Docket Numbers: RP12-336-000.

Applicants: Southern LNG Company, L.L.C.

Description: Dredging Surcharge Cost Adjustment—2012 to be effective 3/1/2012.

Filed Date: 1/27/12.

Accession Number: 20120127-5032.

Comments Due: 5 p.m. ET 2/8/12.

Docket Numbers: RP12-337-000.

Applicants: Arlington Storage Company, LLC.

Description: Arlington Storage Company, LLC—Enhanced Interruptible Services to be effective 1/6/2012.

Filed Date: 1/27/12.

Accession Number: 20120127-5049.

Comments Due: 5 p.m. ET 2/8/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP10-1083-005.

Applicants: Eastern Shore Natural Gas Company.

Description: Requisite tariff sheets in the Settlement of RP11-1670 to be effective 7/29/2011.

Filed Date: 1/25/12.

Accession Number: 20120125-5249.

Comments Due: 5 p.m. ET 2/6/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 27, 2012.
Nathaniel J. Davis,
Deputy Secretary.

[FR Doc. 2012-2544 Filed 2-3-12; 8:45 am]

BILLING CODE 6717-01-P